DEPARTMENT OF HEALTH AND HUMAN SERVICES

Administration for Children and Families

45 CFR Part 1304

RIN 0970-AC63

CLASS Condition of the Head Start Designation Renewal System

AGENCY: Office of Head Start (OHS), Administration for Children and Families (ACF), Department of Health and Human Services (HHS).

ACTION: Request for comments; withdrawal

SUMMARY: OHS withdraws the “CLASS Condition of the Head Start Designation Renewal System” request for comments, published in the Federal Register on December 8, 2017. OHS simultaneously issues the “Head Start Designation Renewal System Improvements” request for comments, located elsewhere in the same issue of the Federal Register. The “Head Start Designation Renewal System Improvements” request for comments contains information we inadvertently omitted from the “CLASS Condition of the Head Start Designation Renewal System” request for comment publication.

DATES: As of February 14, 2018, the proposed rule published December 8, 2017, at 82 FR 57905, is withdrawn.

ADDRESSES: Division of Planning, Oversight and Policy, Office of Head Start, 330 C Street SW, Washington, DC 20024.

FOR FURTHER INFORMATION CONTACT: Colleen Rathgeb, Director, Division of Planning, Oversight and Policy, Office of Head Start, [colleen.rathgeb@acf.hhs.gov], (202) 358-3263 (not a toll-free call). Deaf and hearing impaired individuals may call the Federal Dual Party Relay Service at 1-800-877-8339 between 8 a.m. and 7 p.m. Eastern Standard Time.

SUPPLEMENTARY INFORMATION: OHS published the “CLASS Condition of the Head Start Designation Renewal System” request for comments on December 8, 2017, to solicit comments from the public on changes we are considering to the Designation Renewal System (DRS). We unintentionally omitted language from the document that specifically asks the public to consider what changes OHS can make to incentivize robust competition and to facilitate orderly transitions between grantees when an incumbent does not regain its grant after competition, as well as any other administrative changes that do not require regulatory action.

We believe public feedback on the omitted language is important and can help us make better informed decisions about the DRS. For that reason, we withdraw the “CLASS Condition of the Head Start Designation Renewal System” request for comments, and we are publishing a new request for comments, titled “Head Start Designation Renewal System Improvements,” elsewhere in this issue of the Federal Register.

Dated: February 7, 2018.
Ann Linehan,
Acting Director, Office of Head Start.

[FR Doc. 2018-02901 Filed 2-13-18; 8:45 am]

BILLING CODE 4184-01-P